DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before June 29, 2023.

ADDRESSES: You may submit comments identified by Docket No. MSHA-2023-0016 by any of the following methods:

1. Federal eRulemaking Portal: https://www.regulations.gov. Follow the instructions for submitting comments for MSHA-2023-0016.

2. Fax: 202-693-9441.

3. Email: petitioncomments@dol.gov.

4. Regular Mail or Hand Delivery: MSHA, Office of Standards, Regulations, and Variances, 201 12th Street South, Suite 4E401, Arlington, Virginia 22202-5452.

Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2023-004-C.

Petitioner: Peabody Southeast Mining LLC, 701 Market Street, St. Louis, Missouri 63101.

Mine: Shoal Creek Mine, MSHA ID No. 01-02901, located in Tuscaloosa and Walker Counties, Alabama.

Regulation Affected: 30 CFR 75.500(d), Permissible electric equipment.

Modification Request: The petitioner requests a modification of the existing standard, 30 CFR 75.500(d), to allow the use of low voltage, battery-powered non-permissible testing and diagnostic equipment in or inby the last open crosscut.

The petitioner states that:

(a) The mine utilizes the continuous mining and longwall methods of mining.

(b) Mining equipment, e.g., longwall equipment and continuous mining machine, occasionally breaks down in areas of the mine where permissible equipment is required, and it may not be safe or possible to move the equipment into intake air to perform diagnostics or repairs.

(c) MSHA-approved permissible diagnostic and testing equipment is not available for all types of testing and diagnostics.

(d) Accurate testing of electrical systems and diagnosing problems with such systems in electric mining equipment in or inby the last open crosscut is critical to miners' safety.

The petitioner proposes the following alternative method:

(a) Non-permissible electronic testing and diagnostic equipment to be used includes:

—Hilti PD-E Laser;

—Fluke 922 Airflow Meter Manometer;

—Sharp EL-501X Calculator;

—Fluke 117 Electrician's Multimeter;

—Fluke 1AC Volt Alert Pocket Tester;

—Fluke 2AC Non-Contact Voltage Tester;

—Fluke 177 Digital Multimeter;

—Fluke 381 Remote Display Clamp Meter;

—Fluke 1555 FC 10 kV Insulation Tester;

—Fluke 1550C FC kV Insulation Tester Kit;

—Fluke 1587 FC Multimeter;

—Fluke 773 Milliamp Process Clamp Meter;

—Fluke 87V Industrial Multimeter;

—Fluke 1550C FC kV Insulation Tester Kit; and

—Fluke 789 FC ProcessMeter;

—Texas TI-84 Calculator;

—Texas TI-36X Calculator.

Other testing and diagnostic equipment may be used if approved in advance by the MSHA District Manager.

(b) All non-permissible testing and diagnostic equipment used in or inby the last open crosscut shall be examined by a qualified person as defined in 30 CFR 75.153 prior to use to ensure the equipment is being maintained in a safe operating condition. The examination results shall be recorded in the weekly examination book and made available to MSHA and the miners at the mine.

(c) A qualified person as defined in 30 CFR part 75.151 shall continuously monitor for methane immediately before and during the use of non-permissible electronic testing and diagnostic equipment in or inby the last open crosscut.

(d) Non-permissible electronic testing and diagnostic equipment shall not be used if methane is detected in concentrations at or above 1.0 percent. When 1.0 percent or more methane is detected while the non-permissible electronic equipment is being used, the equipment shall be de-energized immediately and withdrawn outby the last open crosscut.

(e) All hand-held methane detectors shall be MSHA approved and maintained in permissible and proper operating condition as defined in 30 CFR 75.320.

(f) Except for time necessary to troubleshoot under actual mining conditions, coal production in the section shall cease. However, coal may remain in or on the equipment to test and diagnose the equipment under “load.”

(g) All electronic testing and diagnostic equipment shall be used in accordance with the safe use procedures recommended by the manufacturer.

(h) Qualified personnel who use electronic testing and diagnostic equipment shall be properly trained to recognize the hazards and limitations associated with use of the equipment.

In support of the proposed alternative method, the petitioner submitted a list and specifications of the low voltage, battery-powered non-permissible electronic testing and diagnostic equipment.

The petitioner asserts that the alternative method proposed will at all times guarantee no less than the same measure of protection afforded the miners under the mandatory standard.

Song-ae Aromie Noe,
Director, Office of Standards, Regulations, and Variances.

[FR Doc. 2023-11427 Filed 5-26-23; 8:45 am]

BILLING CODE 4520-43-P